DEPARTMENT OF COMMERCE

National Oceanic and Atmospheric Administration

50 CFR Part 622

[Docket No. 000229053-0190-02; I.D. 120699A]

RIN 0648-AK96

Fisheries of the Caribbean, Gulf of Mexico, and South Atlantic; Reef Fish Fishery of the Gulf of Mexico; Amendment 17

AGENCY: National Marine Fisheries Service (NMFS), National Oceanic and Atmospheric Administration (NOAA), Commerce.

ACTION: Final rule.

SUMMARY: NMFS issues this final rule to implement Amendment 17 to the Fishery Management Plan for the Reef Fish Resources of the Gulf of Mexico (FMP). Amendment 17 and this final rule extend the current commercial reef fish vessel permit moratorium, which is effective through December 31, 2000, for 5 years through December 31, 2005. The purpose of the moratorium is to provide a stable environment in the fishery necessary for evaluation and development of a more comprehensive controlled access system for the entire commercial reef fish fishery.

DATES: This rule is effective August 2, 2000.

FOR FURTHER INFORMATION CONTACT: Michael Barnette, 727-570-5305; fax: 727-570-5583; e-mail: Michael.Barnette@noaa.gov.

SUPPLEMENTARY INFORMATION: The reef fish fishery is managed under the FMP as prepared by the Gulf of Mexico Fishery Management Council (Council) and approved and implemented by NMFS, under the authority of the Magnuson-Stevens Fishery Conservation and Management Act (Magnuson-Stevens Act), by regulations at 50 CFR part 622.

On December 17, 1999, NMFS announced the availability of Amendment 17 and requested comments on the amendment (64 FR 70678). NMFS approved Amendment 17 on March 16, 2000, and published a proposed rule to implement the 5-year extension of the current commercial reef fish vessel permit moratorium, which would otherwise expire on January 1, 2001, in Amendment 17 and requested comments on it (65 FR 14518, March 17, 2000). The background and rationale for the measure in the amendment and proposed rule are contained in the preamble to the proposed rule and are not repeated here.

Comments and Responses

One comment from the Department of the Interior (DOI) was received on Amendment 17. The DOI requested an extension of the comment period due to the inability to respond with comments in the allotted time. However, the 60-day comment period for the amendment is set by section 304 of the Magnuson-Stevens Act and cannot be extended.

No comments were received on the proposed rule.

Classification

The Administrator, Southeast Region, NMFS, determined that Amendment 17 is necessary for the conservation and management of the reef fish fishery and that it is consistent with the Magnuson-Stevens Act and other applicable laws.

This final rule has been determined to be not significant for purposes of E.O. 12866.

The Chief Counsel for Regulation of the Department of Commerce certified to the Chief Counsel for Advocacy of the Small Business Administration when this rule was proposed that it would not have a significant economic impact on a substantial number of small entities. No comments were received regarding this certification. As a result, a regulatory flexibility analysis was not prepared.

The President has directed Federal agencies to use plain language in their communications with the public, including regulations. To comply with this directive, we seek public comment on any ambiguity or unnecessary complexity arising from the language used in this final rule. Comments should be sent to the Southeast Regional Office, NMFS, 9721 Executive Center Drive N., St. Petersburg, FL 33702.

List of Subjects in 50 CFR Part 622

Fisheries, Fishing, Puerto Rico, Reporting and recordkeeping requirements, Virgin Islands.

Dated: June 27, 2000.
Andrew A. Rosenberg,
Deputy Assistant Administrator for Fisheries, National Marine Fisheries Service.

For the reasons set out in the preamble, 50 CFR part 622 is amended as follows:

PART 622—FISHERIES OF THE CARIBBEAN, GULF, AND SOUTH ATLANTIC

1. The authority citation for part 622 continues to read as follows:

Authority: 16 U.S.C. 1801 et seq.

2. In § 622.4, paragraph (m) introductory text is revised to read as follows:

§ 622.4 Permits and fees.

* * * * *

(m) Moratorium on commercial vessel permits for Gulf reef fish. The provisions of this paragraph (m) are applicable through December 31, 2005.

* * * * *

[FR Doc. 00-16771 Filed 6-30-00; 8:45 am]

BILLING CODE 3510-22-F